DEPARTMENT OF AGRICULTURE

Natural Resources Conservation Service

Scott's Pond Watershed Protection Project Jerome County, Idaho

AGENCY: Natural Resources Conservation Service, USDA.

ACTION: Notice of a finding of no significant impact.

FOR FURTHER INFORMATION CONTACT: Richard Sims, State Conservationist, Natural Resources Conservation Service, 9173 W. Barnes Dr., Suite C, Boise, Idaho 83709-1574, telephone (208) 378-5700.

NOTICE: Pursuant to section 102(2)(C) of the National Environmental Policy Act of 1969; the Council on Environmental Quality Guidelines (40 CFR part 1500); and the Natural Resources Conservation Service Guidelines (7 CFR part 650); the Natural Resources Conservation Service, U.S. Department of Agriculture, gives notice that an environmental impact statement is not being prepared for the Scott's Pond Watershed Protection Project, Jerome County, Idaho.

The Plan/Environmental Assessment of this federally assisted action indicates that the project will not cause significant local, regional, or national adverse impacts on the environment. As a result of these findings, Richard Sims, State Conservationist, has determined that the preparation and review of an environmental impact statement was not needed for this project.

The Scott's Pond Watershed Protection Project consists of a system of land treatment measures designed to protect the resource base, reduce off-site sediment and associated nutrients and bacteria, improve the quality of ground water, and the waters entering the Snake River. Planned treatment practices include: buffer strips, composting facility, conservation crop rotation, cover and green manure crop, critical area planting, dike (berm), fence, forage harvest management, irrigation pit or regulating reservoir, irrigation system (sprinkler), irrigation system (surface—gated pipe with surge), irrigation water management, watering facility (livestock), nutrient management, pasture and hayland planting, pest management, prescribed grazing, pumping plant for water control, residue management (direct seeding and no-till), waste management system, waste storage pond and liner, waste utilization, well decommissioning (injection well), wildlife upland habitat management, wildlife wetland habitat management, and windbreak/shelterbelt establishment.

The Notice of Finding of No Significant Impact (FONSI) has been forwarded to the Environmental Protection Agency. The basic data developed during the plan/environmental assessment are on file and may be reviewed by contacting Mr. Richard Sims. The FONSI has been sent to various Federal, State, and local agencies, and interested parties. A limited number of copies of the FONSI are available to fill single copy requests at the address stated on the previous page.

No administrative action on the proposal will be initiated until 30 days after the date of this publication in the Federal Register.

(This activity is listed in the catalog of Federal Domestic Assistance under NO. 10.904, Watershed Protection and Flood Prevention, and is subject to the provisions of Executive Order 12372, which requires intergovernmental consultation with State and local officials.)

Dated: May 4, 2001.
Richard Sims,
State Conservationist.

[FR Doc. 01-14835 Filed 6-12-01; 8:45 am]

BILLING CODE 3410-16-P